DEPARTMENT OF HEALTH AND HUMAN SERVICES

Centers for Disease Control and Prevention

[60-Day-15-1006; Docket No. CDC-2015-0061]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection extension for the CDC Work@Health® Program: Phase 2 Training and Technical Assistance Evaluation. The Work@Health® Program is a comprehensive workplace training program designed to improve employer knowledge and skills related to effective, science-based workplace health programs, and support the adoption of these programs in the workplace.

DATES: Written comments must be received on or before October 5, 2015.

ADDRESSES: You may submit comments, identified by Docket No. CDC-2015-0061 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

CDC Work@Health® Program: Phase 2 Training and Technical Assistance Evaluation (OMB No. 0920-1006, exp. date 1/31/2016)—Extension—National Center for Chronic Disease Prevention and Health Promotion (NCCDPHP), Centers for Disease Control and Prevention (CDC).

Background and Brief Description

In the United States, chronic diseases, such as heart disease, obesity, and diabetes are among the leading causes of death and disability. Although chronic diseases are among the most common and costly health problems, they are also among the most preventable. Adopting healthy behaviors—such as eating nutritious foods, being physically active and avoiding tobacco use—can prevent the devastating effects and reduce the rates of these diseases.

Employers are recognizing the role they can play in creating healthy work environments and providing employees with opportunities to make healthy lifestyle choices. To support these efforts, the Centers for Disease Control and Prevention (CDC) developed the Work@Health® Program, a comprehensive worksite health training program which includes the development of a worksite health training curriculum and delivery of training to employers nationwide to improve the health of workers and their families. The Work@Health® Program is authorized by the Public Health Service Act and funded through the Prevention and Public Health Fund of the Patient Protection and Affordable Care Act (ACA). The Work@Health® curriculum uses a problem-solving approach to improve employer knowledge and skills related to effective, science-based workplace health programs, and support the adoption of these programs in the workplace. Topics covered in the Work@Health® curriculum include principles, strategies, and tools for leadership engagement; how to make a business case for workplace health programs; how to assess the needs of organizations and individual employees; how to plan, implement, and evaluate sustainable workplace health programs; and how to partner with community organizations for additional support.

CDC began the full-scale implementation and evaluation of the Work@Health® Program in Winter/Spring 2014 (Work@Health® Program: Phase 2 Training and Technical Assistance Evaluation, OMB No. 0920-1006, exp. date 1/31/2016). During the initial two-year clearance period, the target number of trainees was 1,200. Information was collected from trainees and employers to support program recruitment, implementation, and evaluation.

CDC is requesting OMB approval to extend information collection for three years. There are no changes to information collection methods or instruments. The target number of new trainees is 1,200. There are minor changes to the burden table as a result of annualizing responses over a three-year period instead of a two-year period. The expansion of the Work@Health® program will foster the creation of far-reaching networks to help develop a sustainable worksite wellness network.

CDC will offer training in four models (formats): (1) A “Hands-on” instructor-led workshop model; (2) a self-paced “Online” model; (3) a combination or “Blended” model; and (4) a “Train-the-Trainer” model designed to prepare qualified individuals to train other employers using the Work@Health® curricula. Employers who complete the Hands-on, Online, and Blended model trainings will be invited to participate in peer learning networks and receive technical assistance from coaches to support their efforts to implement or enhance their workplace health programs. Technical assistance will also be provided to the individuals who complete the Train-the-Trainer model to help prepare them to provide the Work@Health® training to employers. Training graduates may be eligible for advanced technical assistance and training from CDC at a later date, through the expanded Work@Health® Advance Program.

To be eligible for the Hands-on, Online, and Blended model trainings, employers must have a minimum of 20 employees, a valid business license, and have been in business for at least one year. In addition, they must offer health insurance to their employees and have at least minimal workplace health program knowledge and experience. Applicants for the Train-the-Trainer model must have previous knowledge, training and experience with workplace health programs and an interest in becoming instructors for the Work@Health® program. They may be referred by employers, health departments, business coalitions, trade associations, or other organizations.

CDC will collect a combination of qualitative and quantitative data elements for analysis. These analyses will be supplemented with interview data collected for approximately six case studies. Outcome evaluation will therefore include a descriptive component as well as statistical models to assess the extent to which the program affected the target outcomes. Employers will be recruited to participate in the Work@Health® training and evaluation scheduled to begin in the Winter of 2016. The training models will be evaluated by assessing the participating employers' changes in readiness to develop or enhance a worksite health program; environmental elements of the physical worksite such as facilities; aggregate employee participation in programs and community partnership activities; and elements of worksite structure, practices, and policies related to health and safety. CDC will also assess trainees' knowledge, attitudes, and behaviors related to worksite health and their reaction to the Work@Health® training, including their satisfaction with the training and opinions about whether it met their needs. CDC will not collect individual-level health data for this project.

Participation is voluntary and there are no costs to respondents other than their time.

Estimated Annualized Burden Hours
Type of respondent | Form name | Number of respondents | Number of responses per respondent | Avg. burden per response (in hrs.) | Total burden (in hrs.)
Interested Employer | Employer Application Form | 400 | 1 | 20/60 | 133
Employers Participating in Work@Health® | CDC Worksite Health Scorecard | 320 | 1 | 30/60 | 160
| Organizational Assessment | 320 | 1 | 15/60 | 80
| Employer Follow-up Survey | 160 | 1 | 15/60 | 40
| Case Study Interviews with Senior Leadership | 2 | 1 | 1 | 2
| Case Study Interviews with Employees | 4 | 1 | 1 | 4
Trainees Participating in the Work@Health® Program (Hands-on, Online, Blended models) | Trainee KAB Survey | 640 | 1 | 20/60 | 213
| Trainee Reaction Survey—Hands-On Model | 100 | 1 | 15/60 | 25
| Trainee Reaction Survey—Online Model | 120 | 1 | 15/60 | 30
| Trainee Reaction Survey—Blended Model | 100 | 1 | 15/60 | 25
| Trainee Technical Assistance Survey | 640 | 1 | 15/60 | 160
| Case Study Interviews with Selected Trainees | 10 | 1 | 1 | 10
| Trainee Focus Group Discussion Guide | 7 | 1 | 1.5 | 14
Interested Train-the-Trainer Participants | Train-the-Trainer Application Form | 120 | 1 | 30/60 | 60
Trainees Participating in the Work@Health® Program (Train-the-Trainer model) | Train-the-Trainer Participant Survey | 80 | 1 | 20/60 | 27
| Trainee Reaction Survey—Train-the-Trainer Model | 40 | 1 | 15/60 | 10
| Train-the-Trainer Trainee Technical Assistance Survey | 80 | 1 | 15/60 | 20
Trainees participating in the Work@Health® Program Wave 2 | Wave 2 Trainee Reaction Survey | 200 | 1 | 15/60 | 50
Work@Health® Instructors/Coaches | Instructor/Coach Group Discussion Guide | 7 | 1 | 30/60 | 4
Total |  |  |  |  | 1,064

Leroy A. Richardson,
Chief, Information Collection Review Office, Office of Scientific Integrity, Office of the Associate Director for Science, Office of the Director, Centers for Disease Control and Prevention.

[FR Doc. 2015-19042 Filed 8-3-15; 8:45 am]

BILLING CODE 4163-18-P